DEPARTMENT OF THE INTERIOR

Bureau of Land Management

[LLNV952000 L14400000.BJ0000.LXSSF2210000.241A; 13-08807; MO #4500092462; TAS: 14X1109]

Filing of Plats of Survey; NV

AGENCY: Bureau of Land Management, Interior.

ACTION: Notice.

SUMMARY: The purpose of this notice is to inform the public and interested State and local government officials of the filing of Plats of Survey in Nevada.

DATES: Effective Date: Unless otherwise stated filing is effective at 10:00 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Bureau of Land Management (BLM) Nevada State Office, Reno, Nevada on March 4, 2016:

The plat, in 1 sheet, representing the dependent resurvey of a portion of the south boundary of Township 43 North, Range 24 East; and the dependent resurvey of a portion of the subdivisional lines and the subdivision of sections 5, 6, 7 and 8, Township 42 North, Range 24 East, Mount Diablo Meridian, under Group No. 938, was accepted February 28, 2016. This survey was executed to meet certain administrative needs of the Bureau of Land Management.

2. The Supplemental Plat of the following described lands was officially filed at the BLM Nevada State Office, Reno, Nevada on March 9, 2016:

The supplemental plat, in 1 sheet, showing the amended lottings in section 19, Township 22 North, Range 35 East, of the Mount Diablo Meridian, Nevada, under Group No. 961, was accepted March 7, 2016. This supplemental plat was prepared to meet certain administrative needs of the Bureau of Land Management.

The survey and supplemental plat listed above are now the basic record for describing the lands for all authorized purposes. These records have been placed in the open files in the BLM Nevada State Office and are available to the public as a matter of information. Copies of the surveys and related field notes may be furnished to the public upon payment of the appropriate fees.

Dated: April 22, 2016.
Michael O. Harmening,
Chief Cadastral Surveyor, Nevada.

[FR Doc. 2016-09933 Filed 4-27-16; 8:45 am]

BILLING CODE 4310-HC-P